DEPARTMENT OF AGRICULTURE

Forest Service

Curry and Hill Private Property Access, Medicine Bow-Routt National Forests, Jackson County, CO

AGENCY: USDA, Forest Service.

ACTION: Notice of Intent to prepare an Environmental Impact Statement.

SUMMARY: The Forest Service will prepare an Environmental Impact Statement (EIS) to assess and disclose the environmental effects of issuing a road easement to allow motorized access to private property surrounding Matheson Reservoir. Matheson Reservoir and the Curry and Hill private property are located in Township 4 North, Range 79 West, Section 19 on the Parks Ranger District of the Routt National Forest in Colorado.

Proponents have requested a road easement for year-round motorized access across National Forest System (NSF) lands to their property for non-commercial purposes. Access would be granted through the Alaska National Interest Lands Conservation Act of 1980 (Pub. L. 96-487). As proposed, the proponents would access NFS lands in Township 3 North, Range 79 West, Section 8 and proceed north approximately 5 miles to Township 4 North, Range 79 West, Section 19 utilizing National Forest System Trail 58, also known as the Grimes Trail. The Grimes Trail has been closed to motorized use since 1994, and major improvements would be necessary to accommodate full-size vehicles.

The portion of the Grimes Trail that accesses the private land is located in a non-motorized management area prescription (1.32, Backcountry Recreation, Non-motorized). It is also located in the Troublesome Inventoried Roadless Area. For these reasons, authorization of a road easement would require an amendment to the Routt National Forest Land and Resource Management Plan (Forest Plan, 1997).

The purpose for this action is to decide the type of access Curry and Hill need to secure reasonable use and enjoyment of their land in Section 19, T4N, R79W. Reasonable use per 36 CFR 251.114(a) is “based on contemporaneous uses made of similarly situated lands in the area.”

The need for the action is to respond to Curry and Hill's request that the Forest Service issue an easement for motorized use of the Grimes Trail. The Forest Service must also determine the terms and conditions under which the proponents may access the Curry and Hill private property while protecting National Forest resources and improvements.

The Forest Service is giving notice that it is beginning a full environmental analysis and decision-making process for this proposal so that potentially interested or affected individuals, agencies, or organizations can participate in the process and contribute to the final decision. All comments and suggestions on the scope of the analysis and decision-making process are welcome.

DATES: Public scoping to determine the effects of issuing a road easement for the Grimes Trail is initiated through publication of this Notice of Intent in the Federal Register. Written comments and suggestions should be postmarked within 30 days of the day after this notice is published in the Federal Register to receive consideration. A draft EIS that will have a 45-day public comment period is expected in November 2003. A final decision is expected in March 2004.

ADDRESSES: Send written comments to Melissa Martin, Medicine Bow-Routt National Forests Supervisor's Office, 2468 Jackson Street, Wyoming 82070. Electronic mail (e-mail) may be sent to mmmartin@fs.fed.us and FAX may be sent to (307) 745-2398. Telephone: (307) 745-2371.

FOR FURTHER INFORMATION CONTACT: Tom Florich, Recreation and Lands Program Manager, Medicine Bow-Routt National Forests, 2468 Jackson Street, Laramie, Wyoming 82070. Telephone: (307) 745-2435.

SUPPLEMENTARY INFORMATION: Curry and Hill had been accessing their private land north off of County Road 2, located in Jackson County, Colorado, through another private landowner's property, through BLM land, onto NFS land. Although Curry and Hill claim access was deeded through the other private landowner on April 30, 1918, the private landowner has been denying Curry and Hill access. Litigation is currently pending to determine whether or not Curry and Hill have legal access across this private land. The Grimes Trail has been closed to motorized use since 1994.

Since the matter of reasonable access to this inholding must be resolved, subject to rules and regulations, the Forest Service has decided that it would be prudent to address the proposal at this time.

Preliminary Alternatives: Proposed Action—Road Easement

Authorization: Under the Proposed Action, the Forest Service would issue a road easement for year-round motorized access across National Forest System (NFS) lands to the Curry and Hill private property for non-commercial purposes. As proposed, the proponents would access NFS lands in Township 3 North, Range 79 West, Section 8 and proceed north approximately 5 miles to Township 4 North, Range 79 West, Section 19 utilizing National Forest System Trail 58, also known as the Grimes Trail. The Grimes Trail has been closed to motorized use since 1994, and major improvements would be necessary to accommodate full-size vehicles.

The portion of the Grimes Trail that accesses the private land is located in a non-motorized management area prescription (1.32, Backcountry Recreation, Non-motorized). It is also located in the Troublesome Inventoried Roadless Area. For these reasons, authorization of a road easement would require an amendment to the Routt National Forest Land and Resource Management Plan (Forest Plan, 1997).

Alternative Access: The Forest Service would authorize access to the private land from the north in a motorized portion of National Forest. Access would be off of State Highway 125 to National Forest Service Road (NFSR) 106, also known as the Willow Creek Road. From there, access would be off of NFSR 730 to NFSR 107. NFSR 107 terminates where it intersects Sheep Creek and connects with Trail 57 on the other side. Trail 57 crosses a riparian area before entering the private land. To avoid the riparian area, roughly ¾ of a mile of road construction would be necessary.

No Action: The Forest Service would deny request for the easement and would issue an Off-road Vehicle Use permit for limited use of All Terrain Vehicles (ATVs) on the Grimes Trail. No improvements to the Grimes Trail would be necessary.

Preliminary Issues: The following preliminary issues have been identified:

• Roadless area road construction/reconstruction (motorized access in a non-motorized prescription).

Decisions To Be Made: The Forest Service is required to provide, subject to reasonable rules and regulations, access across NFS lands as deemed adequate for landowner's reasonable enjoyment of their property. However, the Forest Service is not required to provide the most direct, economical, or convenient route for the landowner. The Forest Service must assure that the access provided is acceptable within the guidelines of the Forest Plan.

Based on the above information, the environmental effects of the alternatives, and the comments submitted during the public participation process, the responsible official must decide:

• Whether or not to provide access across NFS land currently located in a non-motorized management area prescription (Proposed Action) or to require alternate access; and

• The terms and conditions under which the proponents may access the Curry and Hill private property while also protecting the surface natural resources in the area.

Reviewer Obligations: The comment period for this proposal will be 30 days from the day after this Notice of Intent is published in the Federal Register.

Release of Names: Comments received in response to this solicitation, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Responsible Official: The responsible official is the Forest Supervisor of the Medicine Bow-Routt National Forests.

As the Responsible Official, I will decide which, if any, of the alternatives to be described in the draft Environmental Impact Statement will implemented. I will document the decision and reasons for my decision in a Record of Decision.

Dated: August 15, 2003.
Mary H. Peterson,
Medicine Bow-Routt National Forests.

[FR Doc. 03-21567 Filed 8-21-03; 8:45 am]

BILLING CODE 3410-GM-M